DEPARTMENT OF COMMERCE

International Trade Administration

[A-351-825, A-533-810, A-588-833, A-469-805]

Stainless Steel Bar From Brazil, India, Japan, and Spain: Final Results of the Expedited Third Sunset Reviews of the Antidumping Duty Orders

AGENCY: Import Administration, International Trade Administration, Department of Commerce.

SUMMARY: On December 1, 2011, the Department of Commerce (the Department) initiated the third sunset reviews of the antidumping duty orders on stainless steel bar from Brazil, India, Japan, and Spain pursuant to section 751(c) of the Tariff Act of 1930 (the Act), as amended. The Department has conducted expedited (120-day) sunset reviews of these orders. As a result of these sunset reviews, the Department finds that revocation of the antidumping duty orders would be likely to lead to continuation or recurrence of dumping as indicated in the “Final Results of Reviews” section of this notice.

DATES: Effective Date: March 20, 2012.

FOR FURTHER INFORMATION CONTACT: Bryan Hansen or Minoo Hatten, AD/CVD Operations, Office 1, Import Administration, International Trade Administration, U.S. Department of Commerce, 14th Street and Constitution Avenue NW., Washington, DC 20230; telephone: (202) 482-3683 or (202) 482-1690, respectively.

SUPPLEMENTARY INFORMATION:

Background

On December 1, 2011, the Department published the notice of initiation of the sunset reviews of the antidumping duty orders on stainless steel bar from Brazil, India, Japan, and Spain¹ pursuant to section 751(c) of the Act. See Initiation of Five-Year (“Sunset”) Review, 76 FR 74775 (December 1, 2011) (Notice of Initiation).

¹ Antidumping Duty Orders: Stainless Steel Bar from Brazil, India and Japan, 60 FR 9661 (February 21, 1995) and Amended Final Determination and Antidumping Duty Order: Stainless Steel Bar From Spain, 60 FR 11656 (March 2, 1995).

The Department received a notice of intent to participate in these sunset reviews from the domestic interested parties, Carpenter Technology Corporation, Crucible Industries LLC, Electralloy a G.O. Carlson Inc. Co., Universal Stainless & Alloy Products, Inc., and Valbruna Slater Stainless, Inc. (collectively, the domestic interested parties), within the 15-day period specified in 19 CFR 351.218(d)(1)(i). The domestic interested parties claimed interested-party status under section 771(9)(C) of the Act as manufacturers and/or producers of a domestic like product in the United States.

The Department received a complete substantive response to the Notice of Initiation from the domestic interested parties within the 30-day period specified in 19 CFR 351.218(d)(3)(i). The Department received no substantive response from any respondent interested parties. In accordance with section 751(c)(3)(B) of the Act and 19 CFR 351.218(e)(1)(ii)(C)(2), the Department is conducting expedited (120-day) sunset reviews of the antidumping duty orders on stainless steel bar from Brazil, India, Japan, and Spain.

Scope of the Orders

Imports covered by the orders are shipments of stainless steel bar. Stainless steel bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The stainless steel bars subject to the orders is currently classifiable under subheadings 7222.10.00, 7222.11.00, 7222.19.00, 7222.20.00, and 7222.30.00 of the Harmonized Tariff Schedule of the United States (HTSUS). Although the HTSUS subheadings are provided for convenience and customs purposes, our written description of the scope of the orders is dispositive.

Analysis of Comments Received

All issues raised in these reviews are addressed in the “Issues and Decision Memorandum for the Final Results of the Expedited Sunset Reviews of the Antidumping Duty Orders on Stainless Steel Bar from Brazil, India, Japan, and Spain” from Christian Marsh, Deputy Assistant Secretary for Antidumping and Countervailing Duty Operations, to Paul Piquado, Assistant Secretary for Import Administration, dated concurrently with this notice (Issues and Decision Memo), which is hereby adopted by this notice. The Issues and Decision Memo addresses the likelihood of continuation or recurrence of dumping and the magnitude of the margins of dumping likely to prevail if the orders were revoked. Parties can find a complete discussion of all issues raised in these reviews and the corresponding recommendations in this public memorandum, which is on file in the Import Administration's Antidumping and Countervailing Duty Centralized Electronic Service System and is accessible on the Import Administration Web site at http://ia.ita.doc.gov/frn/index.html.

Final Results of Reviews

The Department determines that revocation of the antidumping duty orders on stainless steel bar from Brazil, India, Japan and Spain would be likely to lead to continuation or recurrence of dumping at the following weighted-average percentage margins:

Manufacturers/producers/exporters | Weighted- average margin (percent)
Brazil:
Acos Villares, S.A. | 19.43
All others | 19.43
India:
Grand Foundry, Ltd. | 3.87
Mukand, Ltd. | 21.02
All others | 12.45
Japan:
Aichi Steel Works, Ltd | 61.47
Daido Steel Co., Ltd | 61.47
Sanyo Special Steel Co., Ltd | 61.47
All others | 61.47
Spain:
Acenor, S.A. (and all successor companies, including Digeco, S.A. and Clorimax, SRL) | 62.85
Roldan, S.A. | 7.72
All others | 25.77

Notification Regarding APO

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing the final results and notice in accordance with sections 751(c), 752(c), and 777(i)(1) of the Act.

Dated: March 13, 2012.
Paul Piquado,
Assistant Secretary for Import Administration.

[FR Doc. 2012-6739 Filed 3-19-12; 8:45 am]

BILLING CODE 3510-DS-P